DEPARTMENT OF ENERGY

Federal Energy Regulatory Commission

[Docket No. EC02-48-000, et al.]

Otter Tail Power Company, et al. Electric Rate and Corporate Regulation Filings

February 6, 2002.

Take notice that the following filings have been made with the Commission. Any comments should be submitted in accordance with Standard Paragraph E at the end of this notice.

1. Otter Tail Power Company, a division of Otter Tail Corporation

[Docket No. EC02-48-000]

Take notice that on January 31, 2002, Otter Tail Power Company, a division of Otter Tail Corporation, (Otter Tail) tendered for filing, an Application to Transfer Contractual Rights Over Transmission Facilities to the Midwest Independent Transmission System Operator, Inc. under section 203 of the Federal Power Act. This application is intended to fill in the gaps of Otter Tail's prior application for which the Commission authorized transfer of operational control over transmission facilities. Otter Tail Power Co., 97 FERC ¶61,226, (2001). This application regards the transfer of Otter Tail's contractual rights, as provided by certain agreements, in certain jointly-owned facilities to the Midwest Independent Transmission System Operator, Inc.

Comment Date: February 21, 2002.

2. Keystone Power LLC

[Docket No. EG02-82-000]

Take notice that on February 1, 2002, Keystone Power LLC filed with the Federal Energy Regulatory Commission (Commission) an application for determination of exempt wholesale generator status pursuant to section 32(a)(1) of the Public Utility Holding Company Act of 1935 (PUHCA). The applicant states that it is a limited liability company organized under the laws of the State of Delaware that will increase to 6.17 percent its undivided interests in the Keystone Generating Station in Shelocta, Pennsylvania (Facilities) and sell electric energy at wholesale. The total capacity of the applicant's interest in the Facilities is 105.7 MW. Determinations pursuant to section 32(c) of PUHCA have been received from the State commissions of Delaware, Maryland, New Jersey, and Virginia.

Comment Date: February 27, 2002.

3. Conemaugh Power LLC

[Docket No. EG02-83-000]

Take notice that on February 1, 2002, Conemaugh Power LLC filed with the Federal Energy Regulatory Commission (Commission) an application for determination of exempt wholesale generator status pursuant to section 32(a)(1) of the Public Utility Holding Company Act of 1935 (PUHCA). The applicant states that it is a limited liability company organized under the laws of the State of Delaware that will increase to 7.55 percent its undivided interests in the Conemaugh Generating Station in New Florence, Pennsylvania (Facilities) and sell electric energy at wholesale. The total capacity of the applicant's interest in the Facilities is 128.8 MW. Determinations pursuant to section 32(c) of PUHCA have been received from the State commissions of Delaware, Maryland, New Jersey, and Virginia.

Comment Date: February 27, 2002

4. Mirant Sugar Creek, LLC

[Docket No. EG02-84-000]

Take notice that on February 4, 2002, Mirant Sugar Creek, LLC (Sugar Creek) filed with the Federal Energy Regulatory Commission (Commission) an application for determination of exempt wholesale generator status pursuant to part 365 of the Commission's regulations.

Sugar Creek proposes to own a 560 MW generating facility located in West Terre Haute, Indiana (Facility). The proposed Facility is expected to commence commercial operation in June, 2002. All output from the Facility will be sold by Sugar Creek exclusively at wholesale.

Comment Date: February 27, 2002.

5. San Diego Gas & Electric Company, Complainant, v. Sellers of Energy and Ancillary Services Into Markets Operated by the California Independent System Operator Corporation and the California Power Exchange, Respondents. Investigation of Practices of the California Independent System Operator and the California Power Exchange, Public Meeting in San Diego, California, Reliant Energy Power Generation Inc., Dynegy Power Marketing, Inc., and Southern Energy California, L.L.C., Complainants, v. California Independent System Operator Corporation, Respondent. California Electricity Oversight Board, Complainant, v. All Sellers of Energy and Ancillary Services Into the Energy and Ancillary Services Markets Operated by the California Independent System Operator Corporation and the California Power Exchange, Respondents. California Municipal Utilities Association, Complainant, v. All Jurisdictional Sellers of Energy and Ancillary Services Into the Markets Operated by the California Independent System Operator Corporation and the California Power Exchange, Respondents. Californians for Renewable Energy, Inc. (CARE), Complainant, v. Independent Energy Producers, Inc., and All Sellers of Energy and Ancillary Services Into Markets Operated by the California Independent System Operator Corporation and the California Power Exchange; All Scheduling Coordinators Acting on Behalf of the Above Sellers; California Independent System Operator Corporation; and California Power Exchange Corporation, Investigation of Wholesale Rates of Public Utility Sellers of Energy and Ancillary Services in the Western Systems Coordinating Council.

[Docket Nos. EL00-95-058, EL00-98-050, EL00-107-009, EL00-97-003, EL00-104-008, EL01-1-009, EL01-2-003, EL01-68-011]

Take notice that on January 25, 2002, the California Independent System Operator Corporation (ISO) tendered for filing with the Federal Energy Regulatory Commission (Commission) a compliance filing pursuant to the Commission's December 19, 2001 “Order Accepting In Part And Rejecting In Part Compliance Filings,” 97 FERC ¶ 61,293; the December 19, 2001 “Order On Clarification and Rehearing,” 97 FERC ¶ 61,275; and the December 19, 2001 “Order Temporarily Modifying The West-Wide Price Mitigation Methodology,” 97 FERC ¶ 61,294. Also the ISO filed an erratum to the above-referenced compliance filing on January 29, 2002.

The ISO has served copies of these filings on all parties in the above-captioned proceedings.

Comment Date: February 15, 2002.

6. Old Dominion Electric Cooperative

[Docket No. ER97-4314-007]

Take notice that on October 26, 2000, Old Dominion Electric Cooperative (Old Dominion) filed with the Federal Energy Regulatory Commission (Commission) an amended version of its October 17, 2000 filing with the Commission of a Request for Determination That Updated Market Analysis is Not Necessary or, in the Alternative, for Extension of Time in the above-referenced proceeding.

Comment Date: February 27, 2002.

7. Northern Indiana Public Service Company

[Docket No. ER01-2541-001]

Take notice that on January 28, 2002, Northern Indiana Public Service Company (Northern Indiana) filed Amendment No. 1 to interconnection and Operating Agreement with Whiting Clean Energy, Inc. The filing is made in compliance with an order issued by the Commission in Docket No. ER01-2541-000. Northern Indiana has requested an effective date of July 9, 2001.

Copies of this filing have been sent to Whiting Clean Energy, Inc., the Indiana utility Regulatory Commission, and the Indiana Office of Utility Consumer Counselor.

Comment Date: February 22, 2002.

8. GNE, LLC

[Docket No. ER02-159-002]

Take notice that on January 28, 2002, GNE, LLC (GNE) hereby submits to the Federal Energy Regulatory Commission (Commission) additional information regarding a change in the ownership of GNE, which GNE submits is a non-material departure from the characteristics that the Commission relied upon in approving GNE's market-based rate authorization.

Comment Date: February 19, 2002.

9. New England Power Pool

[Docket No. ER02-940-000]

Take notice that on February 1, 2002, the New England Power Pool (NEPOOL) Participants Committee filed for acceptance materials to permit NEPOOL to expand its membership to include Emera Energy Services, Inc. (Emera), Allegheny Energy Supply Company, LLC (Allegheny), RWE Trading Americas Inc. (RWE), Maclaren Energy Inc. (Maclaren) and Leonard LaPorta (LaPorta). The Participants Committee requests an effective date of February 1, 2002, for commencement of participation in NEPOOL by Allegheny and Maclaren, March 1, 2002 for RWE, and April 1, 2002 for Emera and LaPorta.

The Participants Committee states that copies of these materials were sent to the New England state governors and regulatory commissions and the Participants in NEPOOL.

Comment Date: February 22, 2002.

10. Midwest Independent Transmission System Operator, Inc.

[Docket No. ER02-941-000]

Take notice that on February 1, 2002, pursuant to Section 205 of the Federal Power Act and Section 35.16 of the Commission's regulations, 18 CFR 35.16 (2001), the Midwest Independent Transmission System Operator, Inc. (Midwest ISO) submitted for filing a Notice of Succession for certain Transmission Service Agreements and Network Transmission Service and Operating Agreements held by Southern Indiana Gas & Electric Company (SIGECO).

Copies of this filing were sent to all applicable customers under the SIGECO Open Access Transmission Tariff by placing a copy of the same in the United States mail, first-class postage prepaid.

Comment Date: February 22, 2002.

11. Cinergy Services, Inc.

[Docket No. ER02-942-000]

Take notice that on February 1, 2002, Cinergy Services, Inc. (Provider) tendered for filing a Firm Point-To-Point Service Agreement under Cinergy's Open Access Transmission Service Tariff (OATT) entered into between Provider and Cinergy Services, Inc. (Customer) (AREF# 69646977). This service agreement has a yearly firm transmission service with American Electric Power via the Gibson Generating Station.

Provider and Customer are requesting an effective date of January 31, 2002.

Comment Date: February 22, 2002.

12. California Independent System Operator Corporation

[Docket No. ER02-943-000]

On February 1, 2002, the California Independent System Operator Corporation (ISO) submitted a notice concerning the termination of the Meter Service Agreement for Scheduling Coordinators between the ISO and California Polar Power Brokers, LLC (CALPOL).

The ISO states that this filing has been served on CALPOL and the persons listed on the service list for Docket No. ER98-1864-000.

Comment Date: February 22, 2002.

13. California Independent System Operator Corporation

[Docket No. ER02-944-000]

On February 1, 2002, the California Independent System Operator Corporation (ISO) submitted a notice concerning the termination of the Scheduling Coordinator Agreement between the ISO and California Polar Power Brokers, LLC (CALPOL).

The ISO states that this filing has been served on CALPOL and the persons listed on the service list for Docket No. ER98-999-000.

Comment Date: February 22, 2002.

14. Louisville Gas and Electric Company Kentucky Utilities Company

[Docket No. ER02-945-000]

Take notice that on February 1, 2002, Louisville Gas and Electric Company and Kentucky Utilities Company filed a proposal to cancel parts of its Open Access Transmission Tariff and substitute an Ancillary Services Form of Agreement. Such cancellation and substitution are proposed in order to accommodate the start-up of Midwest Independent Transmission System Operator, Inc. Open Access Transmission Tariff administration.

Comment Date: February 22, 2002.

15. Southern Company Services, Inc.

[Docket No. ER02-946-000]

Take notice that on February 1, 2002, Southern Company Services, Inc. (SCS), acting on behalf of Alabama Power Company, Georgia Power Company, Gulf Power Company, Mississippi Power Company, and Savannah Electric and Power Company (collectively Southern Companies), filed a service agreement under the Open Access Transmission Tariff of Southern Companies (FERC Electric Tariff, Fourth Revised Volume No. 5) (Tariff) with Duke Energy Corporation regarding OASIS request 314698. This agreement has been designated Service Agreement No. 446 under Southern Companies' Tariff.

Comment Date: February 22, 2002.

16. Midwest Independent Transmission System Operator, Inc.

[Docket No. ER02-947-000]

Take notice that on February 1, 2002, the Midwest Independent Transmission System Operator, Inc. (the Midwest ISO) tendered for filing revisions to its Open Access Transmission Tariff (OATT), FERC Electric Tariff, Original Volume No. 1, which are intended to accommodate retail customer choice in Illinois, Michigan and Ohio.

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter.

Comment Date: February 22, 2002.

17. PJM Interconnection, L.L.C.

[Docket No. ER02-948-000]

Take notice that on February 1, 2002, PJM Interconnection, L.L.C. (PJM) tendered for filing with the Federal Energy Regulatory Commission (Commission) one executed umbrella agreement for short-term firm point-to-point transmission service with Allegheny Energy Supply Company, LLC (Allegheny Energy).

PJM requests a waiver of the Commission's notice regulations to permit effective date for the agreement of January 3, 2002. Copies of this filing were service upon Allegheny Energy, as well as the state utility regulatory commissions within the PJM control area.

Comment Date: February 22, 2002.

18. Progress Energy On behalf of Florida Power Corporation

[Docket No. ER02-949-000]

Take notice that on February 1, 2002, Florida Power Corporation (FPC) tendered for filing a Service Agreement for Long-Term Firm Point-to-Point Transmission Service with Central Power & Lime, Inc. Service to this Eligible Customer will be in accordance with the terms and conditions of the Open Access Transmission Tariff filed on behalf of FPC.

FPC is requesting an effective date of February 1, 2002 for this Service Agreement. A copy of the filing was served upon the Florida Public Service Commission and the North Carolina Utilities Commission.

Comment Date: February 22, 2002.

19. Puget Sound Energy, Inc.

[Docket No. ER02-950-000]

Take notice that on February 1, 2002, Puget Sound Energy, Inc., as Transmission Provider, tendered for filing a Parallel Operation Agreement with the Public Hospital District No. 1 of King County, Washington, doing business as the Valley Medical Center (Valley Medical Center).

A copy of the filing was served upon Valley Medical Center.

Comment Date: February 22, 2002.

20. Midwest Independent Transmission System Operator, Inc.

[Docket No. ER02-951-000]

Take notice that on February 1, 2002, pursuant to Section 205 of the Federal Power Act and Section 35.16 of the Commission's regulations, 18 CFR 35.16 (2001), the Midwest Independent Transmission System Operator, Inc. (Midwest ISO) submitted for filing a Notice of Succession for certain Transmission Service Agreements and Network Transmission Service and Operating Agreements held by Northern States Power Company (NSP).

Copies of this filing were sent to all applicable customers under the NSP Open Access Transmission Tariff by placing a copy of the same in the United States mail, first-class postage prepaid.

Comment Date: February 22, 2002.

21. New England Power Company

[Docket No. ER02-952-000]

Take notice that on February 1, 2002, New England Power Company (NEP) submitted for filing complete revised Service Agreement No. 6 between NEP and Granite State Electric Company (Granite State) under NEP's FERC Electric Tariff, Original Volume No. 1.

NEP states that a copy of this filing has been served upon Granite State and the New Hampshire Public Utilities Commission.

Comment Date: February 22, 2002.

22. New England Power Company

[Docket No. ER02-953-000]

Take notice that on February 1, 2002, New England Power Company (NEP) submitted Second Revised Service Agreement No. 129 (Service Agreement) between NEP and New Hampshire Electric Cooperative, Inc. For network integration transmission service under NEP's open access transmission tariff—New England Power Company, FERC Electric tariff, Second Revised Volume No. 9. This Service Agreement is an amended version of the First Revised Service Agreement that was filed on August 9, 2001, in Docket No. ER01-2802-000. The terms of the amended agreement are identical to the terms of the original agreement, except for the addition of new delivery points and a change in the agreement's expiration date. NEP requests an effective date of February 1, 2002.

NEP states that a copy of this filing has been served upon the appropriate state regulatory agencies and parties to the agreement.

Comment Date: February 22, 2002.

23. Somerset Windpower LLC

[Docket No. ER02-954-000]

Take notice that on February 1, 2002, Somerset Windpower LLC (Somerset) filed with the Federal Energy Regulatory Commission an application to amend its existing authorization to sell capacity and energy at market-based rates pursuant to Section 205 of the Federal Power Act. Somerset is engaged exclusively in the business of owning and operating a 9 MW wind-powered electric generating facility located in Somerset Township, Somerset County, Pennsylvania and selling its capacity and energy at wholesale to Exelon Power Generation LLC.

Comment Date: February 22, 2002.

24. Mill Run Windpower LLC

[Docket No. ER02-955-000]

Take notice that on February 1, 2002, Mill Run Windpower LLC (Mill Run) filed with the Federal Energy Regulatory Commission (Commission) an application to amend its existing authorization to sell capacity and energy at market-based rates pursuant to Section 205 of the Federal Power Act.

Mill Run is engaged exclusively in the business of owning and operating a 15 MW wind-powered electric generating facility located in Springfield and Stuart Townships, Fayette County, Pennsylvania and selling its capacity and energy at wholesale to Exelon Power Generation LLC.

Comment Date: February 22, 2002.

25. PECO Energy Company

[Docket No. ER02-956-000

Take notice that on February 1, 2002 PECO Energy Company (PECO) submitted for filing an Interconnection Agreement by and between PECO and Philadelphian Owners Association for Generation Interconnection and Parallel Operation, designated as Service Agreement No. 633 under PJM Interconnection, L.L.C.'s FERC Electric Tariff, Fourth Revised Volume No. 1, to be effective on February 4, 2002. Copies of this filing were served on Philadelphian Owners Association and PJM.

Comment Date: February 22, 2002.

26. Commonwealth Edison Company

[Docket No. ER02-957-000]

Take notice that on February 4, 2002, Commonwealth Edison Company (ComEd) submitted for filing an interconnection agreement between ComEd and Crete Energy Ventures, LLC. ComEd requests an effective date for the interconnection agreement of February 5, 2002, and, accordingly, seeks waiver of the Commission's notice requirements.

ComEd states that a copy of the filing was served on Crete Energy Ventures, LLC and the Illinois Commerce Commission.

Comment Date: February 22, 2002.

27. PECO Energy Company

[Docket No. ER02-958-000]

Take notice that on February 1, 2002 PECO Energy Company (PECO) submitted for filing an Interconnection Agreement by and between PECO and Phoenix Foods for Generation Interconnection and Parallel Operation, designated as Service Agreement No. 634 under PJM Interconnection, L.L.C.'s FERC Electric Tariff, Fourth Revised Volume No. 1, to be effective on February 4, 2002. Copies of this filing were served on Phoenix Foods and PJM.

Comment Date: February 22, 2002.

28. UAE Mecklenburg Cogeneration LP

[Docket No. QF89-339-005]

Take notice that on February 1, 2002, UAE Mecklenburg Cogeneration LP (Applicant) filed with the Federal Energy Regulatory Commission (Commission) an application for recertification of a facility as a qualifying cogeneration facility pursuant to Section 292.207(b) of the Commission's regulations. No determination has been made that the submittal constitutes a complete filing.

The facility is a 132 megawatt (net) topping-cycle pulverized coal cogeneration facility (the Facility) located in Clarksville, Virginia. The Facility is interconnected with the Virginia Electric and Power Company system and power from the Facility is sold to Virginia Electric and Power Company. The Facility's backup power supply when the Facility is not operating is provided by Mecklenburg Electric Cooperative, Inc.

Comment Date: March 4, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3450 Filed 2-12-02; 8:45 am]

BILLING CODE 6717-01-P